FEDERAL COMMUNICATIONS COMMISSION

Sunshine Act Meeting; Deletion of Agenda Item From September 11, 2007, Open Meeting

September 7, 2007.

The following has been deleted from the list of Agenda items scheduled for consideration at the September 11, 2007, Open Meeting and previously listed in the Commission's Notice of September 4, 2007.

Item No. | Bureau | Subject
4 | Media | Title: Implementation of Section 621(a)(1) of the Cable Communications Policy Act of 1984 as amended by the Cable Television Consumer Protection and Competition Act of 1992 (MB Docket No. 05-311).
|  | Summary: The Commission will consider a Second Report and Order concerning Section 621(a)(1)'s directive that local franchising authorities not unreasonably refuse to award competitive franchises and the application of the Commission's findings in the First Report and Order to incumbent providers.

Federal Communications Commission.
Marlene H. Dortch,
Secretary.

[FR Doc. 07-4497 Filed 9-10-07; 11:56 am]

BILLING CODE 6712-01-P